DEPARTMENT OF LABOR

Employment and Training Administration

[TA-W-81,292]

Siemens Medical Solutions, USA, Inc., Oncology Care Systems (Radiation Oncology), Including On-Site Leased Workers From Source Right Solutions, Concord, California, Now Located in Martinez, California; Amended Certification Regarding Eligibility To Apply for Worker Adjustment Assistance

In accordance with Section 223 of the Trade Act of 1974, as amended (“Act”), 19 U.S.C. 2273, the Department of Labor issued a Certification of Eligibility to Apply for Worker Adjustment Assistance on April 5, 2012, applicable to workers of Siemens Medical Solutions, USA, Inc., Oncology Care Systems (Radiation Oncology), including on-site leased workers from Source Right Solutions, Concord, California. The workers are engaged in activities related to the supply of medical engineering services and other related services. The notice was published in the Federal Register on April 18, 2012 (75 FR 23289).

At the request of a company official, the Department reviewed the certification for workers of the subject firm. New information from the company shows that as of February 2013, Siemens Medical Solutions, USA, Inc., Oncology Care Systems (Radiation Oncology), including on-site leased workers from Source Right Solutions, originally located at 4040 Nelson Avenue, Concord, California is now located at 757A Arnold Drive, Martinez, California.

The intent of the Department's certification is to include all workers of the subject firm who were adversely affected by a shift in the supply of medical engineering services and other related services to Erlangen, Germany.

Based on these findings, the Department is amending this certification to show that Siemens Medical Solutions, USA, Inc., Oncology Care Systems (Radiation Oncology), including on-site leased workers from Source Right Solutions originally located in Concord, California is now located in Martinez, California.

The amended notice applicable to TA-W-81,292 is hereby issued as follows:

All workers from Siemens Medical Solutions, USA, Inc., Oncology Care Systems (Radiation Oncology), including on-site leased workers from Source Right Solutions, Concord, California, now located in Martinez, California, who became totally or partially separated from employment on or after February 1, 2011, through April 5, 2014, and all workers in the group threatened with total or partial separation from employment on date of certification through two years from the date of certification, are eligible to apply for adjustment assistance under Chapter 2 of Title II of the Trade Act of 1974, as amended.

Signed at Washington, DC, this 8th day of April 2013.
Del Min Amy Chen,
Certifying Officer, Office of Trade Adjustment Assistance.

[FR Doc. 2013-10109 Filed 4-29-13; 8:45 am]

BILLING CODE 4510-FN-P